DEPARTMENT OF STATE

[Public Notice: 9068]

Privacy Act; System of Records: Passport Records, State-26

SUMMARY: Notice is hereby given that the Department of State proposes to amend an existing system of records, Passport Records, State-26, pursuant to the provisions of the Privacy Act of 1974, as amended (5 U.S.C. 552a) and Office of Management and Budget Circular No. A-130, Appendix I.

DATES: This system of records will be effective on May 4, 2015, unless we receive comments that will result in a contrary determination.

ADDRESSES: Any persons interested in commenting on the amended system of records may do so by writing to the Director; Office of Information Programs and Services, A/GIS/IPS; Department of State, SA-2; 515 22nd Street NW., Washington, DC 20522-8100.

FOR FURTHER INFORMATION CONTACT: John Hackett, Acting Director; Office of Information Programs and Services,A/GIS/IPS; Department of State, SA-2; 515 22nd Street NW., Washington, DC 20522-8100, or at Privacy@state.gov.

SUPPLEMENTARY INFORMATION: The Department of State proposes that the current system retain the name “Passport Records” (previously published at 76 FR 39466). The information maintained in the Passport Services records is used to establish the U.S. nationality and identity of persons for a variety of legal purposes including, but not limited to, the adjudication of passport applications and requests for related services, social security benefits, employment applications, estate settlements, and Federal and state law enforcement and counterterrorism purposes. The proposed system will include modifications to the following sections: Categories of Individuals, Routine Uses, Retrievability, Notification Procedure, Record Access and Amendment Procedures, and administrative updates.

The Department's report was filed with the Office of Management and Budget. The amended system description, “Passport Records, State-26,” will read as set forth below.

Joyce A. Barr,
Assistant Secretary for Administration, U.S. Department of State.

STATE-26

SYSTEM NAME:

Passport Records.

SECURITY CLASSIFICATION:

Classified and Unclassified.

SYSTEM LOCATION:

Department of State, Passport Services, Vital Records Section, 44132 Mercure Cir, PO Box 1213, Sterling, VA 20166-1213.

CATEGORIES OF INDIVIDUALS COVERED BY THE SYSTEM:

Records are maintained in the Passport Records system about individuals who:

(a) Have applied for the issuance, amendment, extension, or renewal of U.S. passport books and passport cards;

(b) Were issued U.S. passport books or cards, or had passports amended, extended, renewed, limited, revoked, or denied;

(c) Applied to document the birth of a U.S. citizen born abroad;

(d) Were issued a Consular Report of Birth Abroad of U.S. citizens or for whom Certifications (s) of Birth have been issued;

(e) Were born in and/or died in the former Panama Canal Zone prior to October 1979;

(f) Registered at U.S. diplomatic or consular posts as U.S. citizens living or traveling abroad prior to 1990;

(g) Were issued Cards of Registration and Identity as U.S. citizens;

(h) Were issued Certificates of Loss of Nationality of the United States by the Department of State;

(i) Applied at U.S. diplomatic or consular posts for issuance of Certificates of Witness to marriage and individuals who have been issued Certificates of Witness to Marriage prior to 1989;

(j) Deceased individuals for whom a Report of Death of a U.S. Citizen Abroad has been obtained;

(k) Although U.S. citizens, are not or may not be entitled under relevant passport laws and regulations to the issuance or possession of U.S. passport books, cards, or other documentation nor service(s);

(l) Have previous passport records that must be reviewed before further action can be taken on their passport application or request for other consular services;

(m) Requested their own or another's passport records under FOIA or Privacy Act, whether successfully or not; or

(n) Have corresponded with Passport Services concerning various aspects of the issuance or denial of a specific applicant's U.S. passport books or cards.

CATEGORIES OF RECORDS IN THE SYSTEM:

Passport Services maintains U.S. passport records for passports issued from 1925 to present, as well as vital records related to births abroad, deaths, and witnesses to marriage overseas. The passport records system does not maintain evidence of travel such as entrance/exit stamps, visas, or residence permits, since this information is entered into the passport book after it is issued. The passport records system includes the following categories of records:

(a) Passport books and passport cards (“passports”), applications for passports, and applications for additional visa pages, amendments, extensions, replacements, and/or renewals of passports (including all information and materials submitted as part of or with all such applications);

(b) Applications for registration at U.S. diplomatic and consular posts as U.S. citizens or for issuance of Cards of Identity and Registration as U.S. citizens;

(c) Consular Reports of Birth Aboard of United States citizens;

(d) Panama Canal Zone birth and death certificates;

(e) Certificates of Witness to Marriage;

(f) Certificates of Loss of United States Nationality;

(g) Oaths of Repatriation;

(h) Consular Certificates of Repatriation;

(i) Reports of Death of a U.S. Citizen Abroad;

(j) Cards of Identity and Registration as U.S. citizens;

(k) Lookout files which identify those persons whose applications for a consular or related services required other than routine examination or action;

(l) Lost, Stolen or Revoked passport status; and

(m) Miscellaneous materials, which are documents and/or records maintained separately, if not in the application, including but not limited to the following types of documents:

• Investigatory reports compiled in connection with granting or denying passport and related services or prosecuting violations of passport criminal statutes;

• Transcripts and opinions on administrative hearings, appeals, and civil actions in federal courts;

• Legal briefs, memoranda, judicial orders and opinions arising from administrative determinations relating to passports and citizenship;

• Birth and baptismal certificates;

• Copies of state-issued driver's licenses and identity cards;

• Court orders;

• Arrest warrants;

• Medical, personal and financial reports;

• Affidavits;

• Inter-agency and intra-agency memoranda, telegrams, letters and other miscellaneous correspondence;

• An electronic index of all passport application records created since 1978, and/or

• An electronic index of Department of State Reports of Birth of U.S. Citizens Abroad, and Consular Reports of Death Abroad.

AUTHORITY FOR MAINTENANCE OF THE SYSTEM:

(a) 8 U.S.C. 1401-1503 (2010) (Acquisition and Loss of U.S. Citizenship or U.S. Nationality; Use of U.S. Passport);

(b) 18 U.S.C. 911, 1001, 1541-1546 (2010) (Crimes and Criminal Procedure);

(c) 22 U.S.C. 211a-218, 2651a, 2705 (2010); Executive Order 11295, August 5, 1966, 31 FR 10603; (Authority of the Secretary of State in granting and issuing U.S. passports); and

(d) 8 U.S.C. 1185 (2010) (Travel Control of Citizens).

PURPOSE(S):

The information maintained in the Passport Services records is used to establish the U.S. nationality and identity of persons for a variety of legal purposes including, but not limited to, the adjudication of passport applications and requests for related services, social security benefits, employment applications, estate settlements, and Federal and state law enforcement and counterterrorism purposes.

ROUTINE USES OF RECORDS MAINTAINED IN SYSTEM, INCLUDING CATEGORIES OF USERS AND PURPOSES OF SUCH USES:

The principal users of this information outside the Department of State include the following users:

(a) Department of Homeland Security for border patrol, screening, and security purposes; law enforcement, counterterrorism, and fraud prevention activities; for verification of passport validity to support employment eligibility and identity corroboration for public and private employment through E-verify, and for assisting U.S. state or territory driver's licensing or identification issuing authorities seeking to confirm the authenticity of the U.S. passport when it is presented as evidence of identity, nationality, and/or lawful status to acquire a driver's license or identification card;

(b) Department of Justice, including the Federal Bureau of Investigation, the Bureau of Alcohol, Tobacco, Firearms and Explosives, the U.S. Marshals Services, and other components, for law enforcement, counterterrorism, firearms sales and purchases in accordance with 18 U.S.C. 922, border security, fraud prevention, and criminal and civil litigation activities;

(c) Internal Revenue Service for the mailing and permanent addresses of specifically identified taxpayers in connection with pending actions to collect taxes accrued, examinations, and/or other tax-related assessment and collection activities; and an annual transmission of certain data from applications of those U.S. citizens residing abroad consistent with applicable requirements of 26 U.S.C. 6039E;

(d) INTERPOL and other international organizations for law enforcement, counterterrorism, fraud prevention, and criminal activities related to lost and stolen passports;

(e) National Counterterrorism Center to support strategic operational planning and counterterrorism intelligence activities;

(f) Office of Personnel Management (OPM), other federal agencies, or contracted outside entities to support the investigations OPM, other federal agencies and contractor personnel conduct for the federal government in connection with verification of employment eligibility and/or the issuance of a security clearance;

(g) Social Security Administration to support employment-eligibility verification for public and private employers and for support in verification of social security numbers used in processing U.S. passport applications;

(h) Federal law enforcement and intelligence agencies to support their efforts in identifying, verifying identity, and investigating individuals potentially involved in or associated with criminal or terrorist activities and individuals with other ties or connections to terrorism who may pose a threat to the United States;

(i) Federal, state, local or other agencies having information on an individual's history, nationality, or identity, to the extent necessary to obtain information from these agencies relevant to adjudicating an application for a passport or related service, or where there is reason to believe that an individual has applied for or is in possession of a U.S. passport fraudulently or has violated the law;

(j) Federal, state, local or other agencies for use in legal proceedings, as government counsel deems appropriate, in accordance with any understanding reached by the agency with the U.S. Department of State;

(k) Department of Defense for the purpose of responding to inquiries from U.S. military installations concerning the current status of diplomatic, official, or no-fee regular passport applications of Department of Defense personnel and eligible family members;

(l) Immediate family when the information is necessary as a result of a serious and emergency situation, and for the benefit of the subject;

(m) Private U.S. citizen “wardens” designated by U.S. embassies and consulates to serve, primarily in emergency and evacuation situations, as channels of communication with other U.S. citizens in the local community;

(n) Attorneys representing an individual in administrative or judicial passport proceedings when the individual to whom the information pertains is the client of the attorney making the request;

(o) Members of Congress, at the request of the individual to whom the record pertains;

(p) Contractor personnel conducting data entry, scanning, corrections, and modifications on behalf of an agency and for a purpose otherwise covered by this Notice;

(q) Commercial vendors conducting applicant identity verification against commercial databases upon request of the Department of State;

(r) Foreign governments, to permit such governments to fulfill passport control and immigration duties and their own law enforcement, counterterrorism, and fraud prevention functions, and to support U.S. law enforcement, counterterrorism, and fraud prevention activities;

(s) U.S. state vital records issuing authorities for the purpose of confirming or validating a U.S. passport when it is presented as evidence to acquire certified copies of vital records;

(t) The National Association for Public Health Statistics and Information Systems for the purpose of verifying a Consular Report of Birth Abroad presented as evidence of nationality and/or lawful status when acquiring a driver's license or identification card at a U.S. state or territory driver's licensing or identification issuing authority; and

(u) Government agencies other than the ones listed above that have statutory or other lawful authority to maintain such information may also receive access on a need-to-know basis; however, all information is made available to users only for a previously-established routine use.

The Department of State periodically publishes in the Federal Register its standard routine uses that apply to all of its Privacy Act systems of records. These notices appear in the form of a Prefatory Statement. These standard routine uses apply to the Passport Records, State-26.

POLICIES AND PRACTICES FOR STORING, RETRIEVING, ACCESSING, RETAINING AND DISPOSING OF RECORDS IN THE SYSTEM:

STORAGE:

Hard copy, electronic media.

RETRIEVABILITY:

By individual name, date and place of birth, social security number, passport book or passport card number.

SAFEGUARDS:

All users are given cyber security awareness training which covers the procedures for handling Sensitive but Unclassified information, including personally identifiable information (PII). Annual refresher training is mandatory. In addition, all Foreign Service and Civil Service employees and those Locally Employed Staff (LES) who handle PII are required to take the Foreign Service Institute distance learning course instructing employees on privacy and security requirements, including the rules of behavior for handling PII and the potential consequences if it is handled improperly. Before being granted access to Passport Records a user must first be granted access to the Department of State computer system.

Remote access to the Department of State network from non-Department owned systems is authorized only to unclassified systems and only through a Department-approved access program. Remote access to the network is configured with the Office of Management and Budget Memorandum M-07-16 security requirements, which include but are not limited to two-factor authentication and a time-out function.

All Department of State employees and contractors with authorized access have undergone a thorough background security investigation. Access to the Department of State, its annexes and posts abroad is controlled by security guards and admission is limited to those individuals under proper escort. All paper records containing personal information are maintained in secured file cabinets in restricted areas, access to which is limited to authorized personnel. Access to computerized files is password-protected and under the direct supervision of the system manager. The system manager has the capability of printing audit trails of access from the computer media, thereby permitting regular and ad hoc monitoring of computer usage. When it is determined that a user no longer needs access, the user account is disabled.

RETENTION AND DISPOSAL:

Retention of these records varies depending upon the specific record involved. They are retired or destroyed in accordance with published record schedules of the Department of State and as approved by the National Archives and Records Administration. More specific information may be obtained by writing to the Director, Office of Information Programs and Services, A/GIS/IPS, SA-2, Department of State, 515 22nd Street NW., Washington, DC 20522-8100.

SYSTEM MANAGER AND ADDRESS:

Deputy Assistant Secretary of State for Passport Services, 600 19th Street NW., Fourth Floor, Washington, DC 20431.

NOTIFICATION PROCEDURE:

An individual seeking to determine whether Passport Services maintains records must submit a signed and notarized written request or a written declaration signed and dated under penalty of perjury pursuant to 28 U.S.C. 1746 and include all pertinent facts associated with the occasion or justification for the request, along with a copy of both sides of the requester's valid government issued photo identification. Only the subject, a parent, authorized legal representative, or legal guardian may request notification of whether the system of records contains a record pertaining to the subject. The following information must be included in the request:

(a) General Background Information

• Date of request

• Purpose/Justification for request

• Document requested

• Number of documents requested

• Current mailing address, daytime telephone number, email address

• Each parent's name

• Each parent's date and place (state/country) of birth

(b) Previous Passport Information (if known)

• Date of issuance

• Passport number

• Date of inclusion (If applicable, and if passport was issued in another name but included the subject)

(c) Current Passport Information

• Name of bearer

• Date of issuance

• Passport number (if known)

A request to search Passport Records, STATE-26, will be treated also as a request to search Overseas Citizens Services Records, STATE-05, when it pertains to registration, citizenship, birth, or death records transferred from STATE-05 to STATE-26. Requests should be mailed to the following address: U.S. Department of State, Office of Law Enforcement Liaison Division, CA/PPT/S/L/LE, 44132 Mercure Circle, P.O. Box 1227, Sterling, VA 20166-1227. Responses to such requests will consist of a letter indicating that the records that exist in the passport records system. Additional information regarding applicable fees, third-party requests, certified copies, and frequently asked questions is available at http://www.travel.state.gov/passport/services/copies/copies.

RECORD ACCESS AND AMENDMENT PROCEDURES:

Individuals who wish to gain access to or amend records pertaining to themselves or their minor children should write to the appropriate address listed below. There are several ways individuals may gain access to or amend passport records pertaining to themselves or their minor children. First, individuals may request access to records in their name and the records of their minor children under the Privacy Act of 1974, 5 U.S.C. 552a. Alternatively, third parties may request access to records under the guidelines of the Freedom of Information Act, 5 U.S.C. 552. Additionally, individuals may request access to their passport and/or vital records through the applicable Passport Office request process, as described below. Access may be granted to third parties to the extent provided for under applicable laws and regulations. Please refer to http://www.travel.state.gov for detailed information regarding applicable fees, third-party requests of certified copies, and frequently asked questions. The appropriate methods by which passport records and vital records may be requested are as follows:

I. Privacy Act of 1974 and Freedom of Information Act.

Under the Privacy Act of 1974, individuals have the right to request access to their records at no charge, and to request that the Department of State amend any such records that they believe are not accurate, relevant, timely or complete, 5 U.S.C. 552a(d)(2) . Additionally, third parties may request passport and vital records information from 1925 to the present, within the guidelines of the Privacy Act and the Freedom of Information Act, 5 U.S.C. 552. Written requests for access to or amendment of records must comply with the Department's regulations published at 22 CFR part 171.

Please see 22 CFR 171 for a complete list of requirements for a request for access to records. In accordance with 22 CFR part 171, amendment requests must include the following information:

(a) A verification of personal identity (including full name, current address, and date and place of birth), either notarized or signed and dated under penalty of perjury pursuant to 28 U.S.C. 1746;

(b) Any additional information if it would be needed to locate the record at issue;

(c) A description of the specific correction requested;

(d) An explanation of why the existing record is not accurate, relevant, timely or complete; and

(e) Any available documents, arguments or other data to support the request.

Requests for Passport Records under the Privacy Act and/or the Freedom of Information Act must be made in writing to the following office: U.S. Department of State, Office of Law Enforcement Liaison Division, CA/PPT/S/L/LE, 44132 Mercure Circle, P.O. Box 1227, Sterling, VA 20166-1227.

II. Access to Records through the Passport Office Requests Process

A. Passport Records

1. 1925 to the Present

An individual seeking Passport Records must submit a signed and notarized written request or a written declaration signed and dated under penalty of perjury pursuant to 28 U.S.C. 1746 and include all pertinent facts associated with the occasion or justification for request, along with a copy of both sides of the requester's valid government-issued photo identification. Only the subject, a parent or guardian of a minor child, or authorized representative or designee, or law enforcement authority may request for notification of whether the system of records contains a record pertaining to the subject. The following information must be included in the request (Please refer to 22 CFR 171 for a complete list of requirements):

General Background Information

• Date of request

• Purpose/Justification for request

• Document requested

• Number of documents requested

• Current mailing address, daytime telephone number, email address

• Each parent's name, date and place (state/country) of birth

Previous Passport Information (if known)

• Date of issuance

• Passport number

• Date of inclusion (and, if applicable, whether passport was issued in another name but included the requestor)

Current Passport Information

• Name of bearer

• Date of issuance

• Passport number (if known)

All requests for passport records issued from 1925 to the present should be submitted to the following address: U.S. Department of State, Office of Law Enforcement Liaison Division, CA/PPT/S/L/LE, 44132 Mercure Circle, P.O. Box 1227, Sterling, VA 20166-1227.

2. Prior to 1925

The National Archives and Records Administration maintains records for passport issuances prior to 1925, which may be requested by writing to the following address: National Archives and Records Administration, Archives 1, Reference Branch, 8th & Pennsylvania Ave. NW., Washington DC 20408-0002.

B. Vital Records—Consular Reports of Birth Abroad, Consular Reports of Death Abroad, Certificate of Witness to Marriage, Panama Canal Zone Birth and Death Certificates, and Certification of No Record

An individual seeking Passport Records must submit a signed and notarized written request or a written declaration signed and dated under penalty of perjury pursuant to 28 U.S.C. 1746 and include all pertinent facts associated with the occasion or justification for request, along with a copy of both sides of the requester's valid government issued photo identification. Only the subject, a parent or guardian of a minor child, or authorized representative or designee, may request for notification of whether the system of records contains a record pertaining to him/her. The following information must be included in the request (Please refer to 22 CFR part 171 for a complete list of requirements):

General Background Information

• Date of request

• Purpose of request

• Document Requested (Consular Reports of Birth Abroad, Consular Report of Death Abroad, Certificate of Witness of Marriage (prior to 1985), Panama Canal Zone birth or death certificate, or Certification of No Record).

• Number of documents requested

• Current mailing address and daytime telephone number

Facts of Birth, Death, or Marriage

• Name (at birth/death/marriage)

• Name after adoption (if applicable)

• Country of birth/death/marriage

• Each parent's full name and date and place (state/country) or birth

Previous Passport Information (if known)

• Passport used to first enter the United States (if applicable).

• Name of bearer

• Date of issuance

• Passport number

• Date of inclusion (if applicable, and if passport was issued in another name but included the subject)

Current Passport Information

• Name of bearer

• Date of issuance

• Passport number (if known)

If requesting an amendment or correction to a Consular Report of Birth Abroad, please include certified copies of all documents appropriate for effecting the change (i.e., foreign birth certificate, marriage certificate, court-ordered adoption or name change, birth certificates of adopting or legitimating parents, etc.) If the subject has reached the age of majority, only the subject can request the record be amended or corrected. The original or replacement FS-240, or a notarized affidavit concerning its whereabouts also must be included.

All requests for consular vital records through the Passport Office request process should be mailed to the following address: Department of State, Passport Services, Vital Records Section, 44132 Mercure Cir, PO Box 1213, Sterling, VA 20166-1213.

Contesting Record Procedures:

See above.

Record Source Categories:

These records contain information obtained primarily from the individual who is the subject of these records; law enforcement agencies; investigative intelligence sources; investigative security sources; and, officials of foreign governments.

System Exempted from Certain provisions of the Act:

Pursuant to 5 U.S.C. 552a (k)(1), (k)(2), and (k)(3), certain records contained within this system of records may be exempt from subsections 5 U.S.C. 552a (c)(3), (d), (e)(1); (e)(4)(G), (e)(4)(H), (e)(4)(I) and (f).

[FR Doc. 2015-06691 Filed 3-23-15; 8:45 am]

BILLING CODE 4710-06-P